DEPARTMENT OF VETERANS AFFAIRS

Veterans and Community Oversight and Engagement Board; Notice of Meeting

The Department of Veterans Affairs (VA) gives notice under the Federal Advisory Committee Act that the Veterans and Community Oversight and Engagement Board (Board) will meet on March 20-21, 2018, at 11301 Wilshire Boulevard, Building 500, Room 1281, Los Angeles, CA. Both meeting sessions will begin at 8:00 a.m. (PST) and adjourn at 5:00 p.m. (PST). The meetings are open to the public.

The Board is a statutory Board established by the West Los Angeles Leasing Act of 2016 on September 29, 2016. The purpose of the Board is to provide advice and make recommendations to the Secretary of Veterans Affairs on: Identifying the goals of the community and Veteran partnership; improving services and outcomes for Veterans, members of the Armed Forces, and the families of such Veterans and members; and on the implementation of the Draft Master Plan approved by the Secretary on January 28, 2016, and on the creation and implementation of any successor master plans.

On March 20, the agenda will include information briefings on the Greater Los Angeles Draft Master Plan Integrated Project Team, a detailed status briefing on the implementation of the Draft Master Plan, and Cross Committee collaboration briefings provided by the Committee Managers from the Minority Veterans Advisory Committee and Homeless Veterans Advisory Committee. On March 21, the Committee's subcommittees on Outreach and Community Engagement, Services and Outcomes, and Master Plan will report out on activities since the last meeting.

Public comments will be received from 8:30-9:50 a.m. on March 21, 2018. Individuals wishing to make a public comment should contact Laureen Barone at laureen.barone@va.gov and are requested to submit a 1-2 page summary of their comments for inclusion in the official meeting record. In the interest of time, each speaker will be held to a 5 minute time limit. Any member of the public seeking additional information should contact Ms. Barone at (716) 364-3639 or at laureen.barone@va.gov.

Dated: February 21, 2018.
Jelessa M. Burney,
Federal Advisory Committee Management Officer.

[FR Doc. 2018-03802 Filed 2-23-18; 8:45 am]

BILLING CODE P